DEPARTMENT OF TRANSPORTATION

Office of the Secretary

Aviation Proceedings, Agreements Filed the Week Ending August 26, 2005

The following Agreements were filed with the Department of Transportation under the Sections 412 and 414 of the Federal Aviation Act, as amended (49 U.S.C. 1382 and 1384) and procedures governing proceedings to enforce these provisions. Answers may be filed within 21 days after the filing of the application.

Docket Number: OST-2005-22204.

Date Filed: August 22, 2005.

Parties: Members of the International Air Transport Association.

Subject:

Mail Vote 452—Resolution 010s;

TC3 Japan, Korea-South East Asia;

Special Passenger Amending Resolution between China (excluding Hong Kong SAR and Macao SAR) and Japan.

Intended effective date: 1 September 2005.

Docket Number: OST-2005-22205.

Date Filed: August 22, 2005.

Parties: Members of the International Air Transport Association.

Subject:

Composite Expedited Resolution 002ad (Memo 1260);

Composite Expedited Resolution 024e (Memo 1261);

Composite Expedited Resolutions 017b and 017c (Memo 1262).

Intended effective date: 1 October 2005.

Renee V. Wright,
Program Manager, Docket Operations, Federal Register Liaison.

[FR Doc. 05-18332 Filed 9-14-05; 8:45 am]

BILLING CODE 4910-62-P